DEPARTMENT OF TRANSPORTATION

Federal Aviation Administration

14 CFR Part 39

[Docket No. 2003-NM-75-AD; Amendment 39-13668; AD 2004-12-09]

RIN 2120-AA64

Airworthiness Directives; McDonnell Douglas Model MD-11 and -11F Airplanes

AGENCY: Federal Aviation Administration, DOT.

ACTION: Final rule.

SUMMARY: This amendment supersedes an existing airworthiness directive (AD), applicable to certain McDonnell Douglas Model MD-11 airplanes, that currently requires, among other actions, replacement of the existing air driven generator (ADG) wire assembly in the right air conditioning compartment with a certain new wire assembly. This amendment requires replacement of the ADG wiring and two associated clamps; inspection of the ADG wiring for correct wire identification, riding, and damage, and inspection of the associated routing/clamps for correct installation; and corrective actions if necessary. The actions specified by this AD are intended to prevent loss of the charging capability of the airplane battery due to chafing. Loss of the charging capability of the airplane battery, coupled with a loss of all normal electrical power, could prevent continued safe flight and landing of the airplane. This action is intended to address the identified unsafe condition.

DATES: Effective July 22, 2004.

The incorporation by reference of certain publications listed in the regulations is approved by the Director of the Federal Register as of July 22, 2004.

ADDRESSES: The service information referenced in this AD may be obtained from Boeing Commercial Airplanes, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; or at the FAA, Los Angeles Aircraft Certification Office, 3960 Paramount Boulevard, Lakewood, California; or at the National Archives and Records Administration (NARA). For information on the availability of this material at NARA, call (202) 741-6030, or go to: http://www.archives.gov/federal_register/code_of_federal_regulations/ibr_locations.html.

FOR FURTHER INFORMATION CONTACT: Brett Portwood, Aerospace Engineer, Systems and Equipment Branch, ANM-130L, FAA, Los Angeles Aircraft Certification Office, 3960 Paramount Boulevard, Lakewood, California 90712-4137; telephone (562) 627-5350; fax (562) 627-5210.

SUPPLEMENTARY INFORMATION: A proposal to amend part 39 of the Federal Aviation Regulations (14 CFR part 39) by superseding AD 2001-17-12, amendment 39-12403 (66 FR 44034, August 22, 2001), which is applicable to certain McDonnell Douglas Model MD-11 and -11F airplanes, was published in the Federal Register on April 1, 2004 (69 FR 17107). The action proposed to require replacement of the air driven generator (ADG) wiring and two associated clamps; inspection of the ADG wiring for correct wire identification, riding, and damage, and inspection of the associated routing/clamps for correct installation; and corrective actions if necessary.

Comments

Interested persons have been afforded an opportunity to participate in the making of this amendment. No comments were submitted in response to the proposal or the FAA's determination of the cost to the public.

Conclusion

The FAA has determined that air safety and the public interest require the adoption of the rule as proposed.

Cost Impact

There are approximately 195 airplanes of the affected design in the worldwide fleet. The FAA estimates that 81 airplanes of U.S. registry will be affected by this AD. The following table shows the estimated cost impact for airplanes affected by this AD. The average labor rate is $65 per work hour.

Cost Estimate
For Airplanes identified in the Service Bulletin as— | Work hours— | Parts cost— | Per airplane cost—
Group 1 | 2 | $1,085 | $1,215
Group 2 | 1 | (None) | 65
Group 3 | 1 | (None) | 65

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions. The manufacturer may cover the cost of replacement parts associated with this AD, subject to warranty conditions. Manufacturer warranty remedies may also be available for labor costs associated with this AD. As a result, the costs attributable to the AD may be less than stated above.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12403 (66 FR 44034, August 22, 2001), and by adding a new airworthiness directive (AD), amendment 39-13668, to read as follows:

2004-12-09 McDonnell Douglas: Amendment 39-13668. Docket 2003-NM-75-AD. Supersedes AD 2001-17-12, Amendment 39-12403.

Applicability: Model MD-11 and -11F airplanes, as listed in Boeing Service Bulletin MD11-24-128, Revision 05, dated June 3, 2003; certificated in any category.

Compliance: Required as indicated, unless accomplished previously.

To prevent loss of the battery charging capability of the air driven generator (ADG), that when coupled with a loss of all normal electrical power, could prevent continued safe flight and landing of the airplane, accomplish the following:

Replace, Tighten, Inspect, and Identify; as Applicable

(a) Within 1 year after the effective date of this AD, do the actions specified in paragraph (a)(1), (a)(2), or (a)(3) of Table 1 of this AD, as applicable, per the Accomplishment Instructions of Boeing Service Bulletin MD11-24-128, Revision 05, dated June 3, 2003.

Table 1.—Replace, Tighten, Inspect, and Identify; As Applicable
For airplanes identified in the Service Bulletin as— | Action(s)—
(1) Group 1 | (i) Replace the ADG wiring assembly located on the transformer panel at station Y=568.333 in the right air conditioning compartment with a new wire assembly.
| (ii) Replace the associated clamps and screws of the ADG wire assembly with new clamps and screws.
| (iii) Torque the terminal hardware to the limits specified in the service bulletin.
(2) Group 2 | Do a general visual inspection of the ADG wire installation for damage/riding and correct clamping/routing.
(3) Group 3 | Do a general visual inspection of the ADG wiring assembly for correct wire identification and/or damage.

Corrective Actions

(b) If any discrepancy is found during the general visual inspection required by either paragraph (a)(2) or (a)(3) of this AD, before further flight, accomplish applicable corrective actions per the Accomplishment Instructions of Boeing Service Bulletin MD11-24-128, Revision 05, dated June 3, 2003.

Alternative Methods of Compliance

(c) In accordance with 14 CFR 39.19, the Manager, Los Angeles Aircraft Certification Office, FAA, is authorized to approve alternative methods of compliance (AMOCs) for this AD.

Incorporation by Reference

(d) The actions shall be done in accordance with Boeing Service Bulletin MD11-24-128, Revision 05, dated June 3, 2003. This incorporation by reference was approved by the Director of the Federal Register in accordance with 5 U.S.C. 552(a) and 1 CFR part 51. Copies may be obtained from Boeing Commercial Airplanes, Long Beach Division, 3855 Lakewood Boulevard, Long Beach, California 90846, Attention: Data and Service Management, Dept. C1-L5A (D800-0024). Copies may be inspected at the FAA, Transport Airplane Directorate, 1601 Lind Avenue, SW., Renton, Washington; or at the FAA, Los Angeles Aircraft Certification Office, 3960 Paramount Boulevard, Lakewood, California; or at the National Archives and Records Administration (NARA). For information on the availability of this material at NARA, call (202) 741-6030, or go to: http://www.archives.gov/federal_register/code_of_federal_regulations/ibr_locations.html.

Effective Date

(e) This amendment becomes effective on July 22, 2004.

Issued in Renton, Washington, on June 3, 2004.
Franklin Tiangsing,
Acting Manager, Transport Airplane Directorate, Aircraft Certification Service.

[FR Doc. 04-13222 Filed 6-16-04; 8:45 am]

BILLING CODE 4910-13-P